DEPARTMENT OF HEALTH AND HUMAN SERVICES

Centers for Disease Control and Prevention

[30Day-06-0334]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

National Survey of Ambulatory Surgery—Reinstatement—National Center for Health Statistics (NCHS), Centers for Disease Control and Prevention (CDC).

The National Survey of Ambulatory Surgery (NSAS) was previously conducted by the CDC National Center for Health Statistics from 1994 through 1996. It is the principal source of data on ambulatory surgery center (ASC) services in the United States. It complements surgery data obtained in the NCHS National Hospital Discharge Survey (NHDS) (OMB No. 0920-0212), which provides annual data concerning the nation's use of inpatient medical and surgical care provided in short-stay, non-Federal hospitals. The NSAS is a national probability sample survey of ambulatory surgery visits in hospitals and freestanding ambulatory surgery centers. It has been the benchmark against which special programmatic data sources are compared.

Data for the NSAS will be collected annually beginning in 2006 from a nationally representative sample of hospitals and freestanding ambulatory surgery centers. The hospital universe includes noninstitutional hospitals exclusive of Federal, military, and Department of Veterans Affairs hospitals located in the 50 States and the District of Columbia. The universe of freestanding facilities includes the freestanding ambulatory surgery centers licensed by states and/or certified as ambulatory surgery centers for Medicare reimbursement. As in the earlier survey, facilities specializing in dentistry, podiatry, abortion, family planning, or birthing will be excluded. As with previous years, the data items which will be abstracted from medical records are the basic core variables from the Uniform Hospital Discharge Data Set (UHDDS) as well as surgery times, total charges and information on anesthesia, complications from surgery and anesthesia. Since the publication of the 60-day notice in the Federal Register on March 10, 2005 (FR 70 No. 46. p. 11985), changes made to the conduct of the NSAS include collecting data from fewer medical records and collecting more information from each participating facility, such as the use of electronic medical records, facility hours of operation, physician specialty and board certification, complications from surgery and anesthesia, plans to handle unexpected emergencies, and post-surgical follow-up. There is no cost to respondents other than their time. The annualized burden hours are 11,231.

Estimates of Annualized Burden Hours
Data collection forms and type of respondents | Number of respondents | Number of responses/ respondent | Averge burden response (in hrs.)
Induction | 227 | 1 | 105/60
Out-of-scope verification | 150 | 1 | 4/60
Sample Listing Sheet:
ASC Personnel | 224 | 12 | 30/60
Census Personnel | 264 | 12 | 0
Medical Abstract:
ASC Personnel | 324 | 132 | 12/60
Census Personnel | 164 | 132 | 2/60
Annual Update | 488 | 1 | 5/60
Quality Control | 245 | 20 | 2/60

Dated: October 27, 2005.
Betsey Dunaway,
Acting Reports Clearance Officer, Centers for Disease Control and Prevention.

[FR Doc. 05-21910 Filed 11-2-05; 8:45 am]

BILLING CODE 4163-18-P